DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 5812, dated January 28, 2013) is amended to reflect the reorganization of the Office of the Associate Director for Science, Office of the Director, Centers for Disease Control and Prevention.

Section C-B, Organization and Functions, is hereby amended as follows:

Revise the functional statement for the Office of Science Quality (CASH), as follows:

After item (11), insert the following: (12) Plans, develops, coordinates, and manages policies and/or activities that assure CDC intellectual property transfer, scientific training and technical assistance, critical external laboratory partnerships and the provision of essential laboratory services; (13) transfers and translates research findings, technologies, and information from CDC's laboratory and science in practice recommendations; and (14) manages CDC's intellectual property (e.g., patents, trademarks, copyrights) and promotes the transfer of new technology from CDC research to the private sector to facilitate and enhance the development of diagnostic products, vaccines, and products to improve occupational safety

Dated: March 7, 2013.
Sherri A. Berger,
Chief Operating Officer, Centers for Disease Control and Prevention.

[FR Doc. 2013-07102 Filed 3-27-13; 8:45 am]

BILLING CODE 4160-18-M